NATIONAL SCIENCE FOUNDATION

Notice of Permit Applications Received Under the Antarctic Conservation Act

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by November 1, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2014-022

1. Applicant: Celia Lang, Lockheed Martin, Antarctic Support Contract, Centennial, Colorado

Activity for Which Permit Is Requested

Introduce non indigenous species into Antarctica; An ACA permit is requested for import and use of a commercially available, bacteria supplement for municipal Wastewater Treatment Plants, to be used in the wastewater treatment plant at McMurdo Station, Antarctica. Benefits include better sludge settling and dewatering, control of surface foam and filamentous growth, reduction of total sludge volume and improved plant performance even in well-operated treatment plants. This supplement is a proprietary mixture of enzymatic substrate, nutrient base and bacteria for the treatment process.

Bacteria would not be released to the marine environment. Most of the bacteria are eventually captured in the wastewater treatment plant's solids that are dewatered, compressed and retrograded to the U.S. The effluent from the wastewater treatment plant is treated with a UV sterilization system before it is discharged from the plant, killing all remaining bacteria before it reaches the sewage outfall

Location

McMurdo Station Waste Water Treatment Plant.

Dates

December 1, 2013 to December 1, 2016.

Nadene G. Kennedy,
Polar Coordination Specialist, Division of Polar Programs.

[FR Doc. 2013-23962 Filed 10-1-13; 8:45 am]

BILLING CODE 7555-01-P